ENVIRONMENTAL PROTECTION AGENCY

40 CFR Part 89

Control of Emissions From New and In-Use Nonroad Compression-Ignition Engines

CFR Correction

In Title 40 of the Code of Federal Regulations, parts 87 to 99, revised as of July 1, 2007, on page 46, in § 89.6, paragraphs (b)(2) and (3) are reinstated to read as follows;

§ 89.6 Reference materials.

* * * * *

(b) * * *

(2) SAE material. The following table sets forth material from the Society of Automotive Engineers which has been incorporated by reference. The first column lists the number and name of the material. The second column lists the section(s) of this part, other than § 89.6, in which the matter is referenced. The second column is presented for information only and may not be all inclusive. Copies of these materials may be obtained from Society of Automotive Engineers International, 400 Commonwealth Dr., Warrendale, PA 15096-0001.

Document number and name | 40 CFR part 89 reference
SAE J244 June 83:
Recommended Practice for Measurement of Intake Air or Exhaust Gas Flow of Diesel Engines | 89.416-96
SAE J1937 November 89:
Recommended Practice for Engine Testing with Low Temperature Charge Air Cooler Systems in a Dynamometer Test Cell | 89.327-96
SAE Paper 770141:
Optimization of a Flame Ionization Detector for Determination of Hydrocarbon in Diluted Automotive Exhausts, Glenn D. Reschke | 89.319-96

(3) California Air Resources Board Test Procedure. The following table sets forth material from the Title 13, California Code of Regulations, Sections 2420-2427, as amended by California Air Resources Board Resolution 92-2 and published in California Air Resources Board mail out #93-42, September 1, 1993) which has been incorporated by reference. The first column lists the number and name of the material. The second column lists the section(s) of this part, other than § 89.6, in which the matter is referenced. The second column is presented for information only and may not be all inclusive. Copies of these materials may be obtained from California Air Resources Board, Haagen-Smit Laboratory, 9528 Telstar Avenue, El Monte, CA 91731-2990.

Document number and name | 40 CFR part 89 reference
California Regulations for New 1996 and Later Heavy-Duty Off-Road Diesel Cycle Engines | 89.112-96 89.119-96 89.508-96

[FR Doc. E8-14279 Filed 6-23-08; 8:45 am]

BILLING CODE 1505-01-D